DEPARTMENT OF LABOR

Employment and Training Administration

[TA-W-65,408]

DHL Express; San Francisco, CA; Notice of Termination of Investigation

Pursuant to Section 221 of the Trade Act of 1974, as amended, an investigation was initiated on February 26, 2009 in response to a worker petition filed by a California State Workforce official on behalf of workers of DHL Express, San Francisco, California.

The petitioner has requested that the petition be withdrawn. Consequently, the investigation has been terminated.

Signed at Washington, DC, this 8th day of April 2009.
Richard Church,
Certifying Officer, Division of Trade Adjustment Assistance.

[FR Doc. E9-10578 Filed 5-6-09; 8:45 am]

BILLING CODE 4510-FN-P